DEPARTMENT OF COMMERCE

National Oceanic and Atmospheric Administration

[I.D. 091806C]

Endangered Species; File No. 1591

AGENCY: National Marine Fisheries Service (NMFS), National Oceanic and Atmospheric Administration (NOAA), Commerce.

ACTION: Notice; receipt of application.

SUMMARY: Notice is hereby given that NMFS Southwest Fisheries Science Center (Stephen Reilly, Responsible Official), 8604 La Jolla Shores Drive, La Jolla, CA 92038, has applied in due form for a permit to take green (Chelonia mydas), loggerhead (Caretta caretta), and olive ridley (Lepidochelys olivacea) sea turtles for purposes of scientific research.

DATES: Written, telefaxed, or e-mail comments must be received on or before October 23, 2006.

ADDRESSES:

The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1591.

FOR FURTHER INFORMATION CONTACT: Patrick Opay or Amy Hapeman, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of this project would be to continue long-term monitoring of the status of sea turtles in San Diego Bay, California. Researchers would study the species present at this temperate foraging area to determine their abundance, size ranges, growth, sex ratio, health status, diving behavior, local movements, habitat use, and migration routes. Turtles would be captured using entanglement nets and each animal would be flipper and passive integrated transponder (PIT) tagged, measured, weighed, sexed, blood sampled, and tissue sampled. A subset of animals be lavaged and would have transmitters attached to their carapace. A primary goal of the research would be to integrate data from genetic analysis, flipper tagging, and satellite telemetry to identify nesting beach origins of turtles occurring in San Diego Bay and contribute to the overall understanding of sea turtle stock structure in the Pacific Ocean. Researchers would compare current data with those collected in San Diego Bay since 1989 to determine growth rates of juveniles and adults, determine tag retention rates, and examine population abundance trends. Genetic studies based on blood and tissue samples are part of an international collaboration to define stock structure of sea turtles in the Pacific. Up to 50 green, 5 loggerhead, and 5 olive ridley sea turtles would be taken annually. The permit would be issued for 5 years.

Dated: September 18, 2006.
P. Michael Payne,
Chief, Permits, Conservation and Education Division, Office of Protected Resources, National Marine Fisheries Service.

[FR Doc. 06-8079 Filed 9-21-06; 8:45 am]

BILLING CODE 3510-22-S